DEPARTMENT OF ENERGY

Federal Energy Regulatory Commission

[Docket No. ER04-520-001, et al.]

Florida Power & Light Company, et al.; Electric Rate and Corporate Filings

February 12, 2004.

The following filings have been made with the Commission. The filings are listed in ascending order within each docket classification.

1. Florida Power & Light Company.

[Docket No. ER04-520-001]

Take notice that on February 4, 2004, Florida Power & Light Company (FPA), tendered for filing an amendment to its February 2, 2004 filing in Docket No. ER04-520-000. Comment Date: February 25, 2004.

2. Citizens Communications Company

[Docket No. ER04-523-001]

Take notice that on February 10, 2004, Citizens Communications Company (Citizens) amended its February 2, 2004 filing in Docket No. ER04-523-000 by filing a Notice of Termination of Franklin Electric Light Company, Inc. Rate Schedule FERC No. 2.

Comment Date: March 2, 2004.

3. CMS Energy Power Management Company

[Docket No. ER04-543-000]

Take notice that on February 10, 2004, CMS Energy Resource Management Company (ERM) tendered for filing its name change from CMS Marketing, Services and Trading Company to Energy Resource Management Company. ERM states that the corporate identity is retained and only the name of the corporation has been changed.

Comment Date: March 1, 2004.

4. Avista Corporation

[Docket No. ER04-544-000]

Take notice that on February 10, 2004, Avista Corporation (Avista) tendered for filing with the Federal Energy Regulatory Commission, pursuant to 18 CFR Part 35, a proposed tariff for the sale, assignment or transfer of transmission rights, Avista Corporation, FERC Electric Tariff Original Volume No. 11 (Tariff). Avista respectfully requests that the Commission accept the Tariff for filing and grant all waivers necessary to allow the Tariff to become effective February 15, 2004.

Comment Date: March 2, 2004.

5. Redwood Energy Marketing, LLC

[Docket No. ER04-545-000]

Take notice that on February 10, 2004, Redwood Energy Marketing, LLC (Redwood) tendered for filing a petition for acceptance of Redwood Rate Schedule FERC No. 1; the granting of certain blanket approvals, including the authority to sell electricity at market-based rates; and the waiver of certain Commission regulations.

Redwood states that it intends to engage in wholesale electric power and energy purchases and sales as a marketer. Redwood also states that it is not in the business of generating or transmitting electric power and that it is an unaffiliated company.

Comment Date: March 2, 2004.

6. Onondaga Cogeneration Limited Partnership

[Docket No. ER04-546-000]

Take notice that on January 9, 2004, Onondaga Cogeneration Limited Partnership (Onondaga) tendered for filing a revised code of conduct to reflect Onondaga's current affiliation with Aquila, Inc. and Onondaga's pending affiliation with Teton Power Funding, LLC, a subsidiary of ArcLight Energy Partners Fund I, L.P.

Comment Date: February 23, 2004.

7. Aquila, Inc.

[Docket No. ES03-43-003 and ES03-43-004]

Take notice that on February 3, 2004, in Docket No. ES03-43-003, Aquila Inc. (Aquila), tendered for filing in response to a second data request issued on November 18, 2003, by the Director of the Division of Tariffs and Market Development—Central, in the above-referenced docket; and on February 3, 2004, in Docket No. ES03-43-004, Aquila amended its July 25, 2003 application to restate the dates for the conversion of long-term debt outstanding to shares of Common Stock of Aquila. Comment Date: March 1, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-340 Filed 2-19-04; 8:45 am]

BILLING CODE 6717-01-P